DEPARTMENT OF HEALTH AND HUMAN SERVICES

National Institutes of Health

Submission for OMB Review; 30-Day Comment Request National Cancer Institute (NCI) a Generic Submission for Formative Research, Pretesting and Customer Satisfaction of NCI's Communication and Education Resources (NCI); Correction

AGENCY: National Institutes of Health, HHS.

ACTION: Notice; correction.

SUMMARY: The Department of Health and Human Services, National Institutes of Health published a Notice in the Federal Register on July 2, 2019. That Notice requires a correction in the Supplementary Information section.

FOR FURTHER INFORMATION CONTACT: To request more information on the proposed project or to obtain a copy of the data collection plans and instruments, contact: Ilene French, Branch Chief, Office of Communication and Public Liaison, National Cancer Institute, 9609 Medical Center Drive, Maryland, 20892 or call non-toll-free number (240) 276-7787 or Email your request, including your address to: nciocpl@mail.nih.gov.

SUPPLEMENTARY INFORMATION:

Correction

In the Federal Register of July 2, 2019, in FR Doc. 2019-14071, on page 31605, correct the Estimated Annualized Burden Hours table to read as follows:

Estimated Annualized Burden Hours
Form name | Type of respondents | Number of respondents | Number of responses per respondent | Average time per response (in hours) | Total annual burden hours
Focus Groups, Individual In-Depth Interviews, Brief Interviews, Surveys, Website Usability Testing | Individuals (General Public) | 9,000 | 1 | 45/60 | 6,750
Focus Groups, Individual In-Depth Interviews, Brief Interviews, Surveys, Website Usability Testing | Individuals (Health Care Professionals) | 9,000 | 1 | 45/60 | 6,750
Total |  |  | 18,000 |  | 13,500

Dated: July 24, 2019.
Patricia M. Busche,
Project Clearance Liaison, National Cancer Institute, National Institutes of Health.

[FR Doc. 2019-16022 Filed 7-26-19; 8:45 am]

BILLING CODE 4140-01-P